DEPARTMENT OF ENERGY

Federal Energy Regulatory Commission

[Docket No. ER03-766-000, et al.]

New York Independent System Operator, Inc., et al.; Electric Rate and Corporate Filings

April 25, 2003.

The following filings have been made with the Commission. The filings are listed in ascending order within each docket classification.

1. New York Independent System Operator, Inc.

[Docket No. ER03-766-000]

Take notice that on April 23, 2003, the New York Independent System Operator, Inc. (NYISO) filed revisions to its Open Access Transmission Tariff and its Market Administration and Control Area Services Tariff pertaining to the mechanism by which the NYISO pricing rules will reflect actions taken by the NYISO when the NYISO experiences a persistent shortage of 10-minute reserves and when the NYISO calls on Special Case Resources or its Emergency Demand Reduction Program.

The NYISO states that it has served a copy of this filing upon all parties that have executed service agreements under the NYISO's Open Access Transmission Tariff or the Market Administration and Control Area Services Tariff and upon the New York State Public Service Commission.

Comment Date: May 14, 2003.

2. DeSoto County Generating Company, LLC

[Docket No. ER03-767-000]

Take notice that on April 23, 2003, DeSoto County Generating Company, LLC (DeSoto) tendered for filing a request for waiver of certain Commission regulations, including 18 CFR parts 41, 101, and 141, for the term of the Tolling Agreements between DeSoto and Florida Power & Light Company.

DeSoto states that copies of this filing were served to Florida Power & Light Company.

Comment Date: May 14, 2003.

3. Susquehanna Energy Products, LLLP

[Docket No. ER03-768-000]

Take notice that on April 23, 2003, Susquehanna Energy Products, LLLP (Susquehanna Energy) petitioned the Commission for acceptance of Susquehanna Energy FERC Electric Tariff, Original Volume Number 1; the granting of certain blanket approvals, including the authority to sell electricity at market-based rates; and the waiver of certain Commission regulations.

Comment Date: May 14, 2003.

4. American PowerNet Management, LP

[Docket No. ER03-769-000]

Take notice that on April 23, 2003, American PowerNet Management, LP (APN) petitioned the Commission for acceptance of APN Rate Schedule FERC No. 1; the granting of certain blanket approvals, including the authority to sell electricity at market-based rates; and the waiver of certain Commission regulations.

APN states that it intends to engage in wholesale electric power and energy purchases and sales as a marketer. APN indicates that it is not in the business of generating or transmitting electric power. APN states that it is a limited partnership engaged primarily in the business of providing energy management services to commercial, industrial, and government entities.

Comment Date: May 14, 2003.

5. AIG Energy Inc.

[Docket No. ER03-770-000]

Take notice that on April 23, 2003, AIG Energy Inc. (AIGEI), filed a notice of succession reflecting the change in the name of the company from AIG Energy Trading Inc., to AIG Energy Inc. In addition, AIGEI filed a Notice of Change in Status from that provided in its initial rate schedule filed March 27, 2001.

Comment Date: May 14, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-10964 Filed 5-2-03; 8:45 am]

BILLING CODE 6717-01-P